DEPARTMENT OF ENERGY

Notice of Intent To Prepare an Environmental Impact Statement for the Decommissioning of the Fast Flux Test Facility at the Hanford Site, Richland, WA

AGENCY: Department of Energy.

ACTION: Notice of intent.

SUMMARY: The U.S. Department of Energy (DOE) announces its intent to prepare an Environmental Impact Statement (EIS), pursuant to the National Environmental Policy Act of 1969 (NEPA), on proposed decommissioning of the Fast Flux Test Facility (FFTF) at the Hanford Site, Richland, Washington. DOE proposes to decommission the FFTF and its support buildings on the Hanford Site. Alternatives to be analyzed will include no action, entombment, and removal.

DATES: DOE invites public comments on the proposed scope of this EIS. The public scoping period begins with the publication of this notice and concludes October 8, 2004. DOE invites Federal agencies, Native American Tribal Nations, State and local governments, and the public to comment on the scope of this EIS. To ensure consideration, comments must be postmarked by Friday, October 8, 2004. Late comments will be considered to the extent practicable. Two public scoping meetings will be held to provide the public with an opportunity to ask questions on the scope of the EIS, discuss concerns with DOE officials, and present comments. The locations, dates, and times for the meetings are as follows: Wednesday, September 22, 2004, from 7 p.m.-10 p.m., at the Red Lion Inn—Hanford House, 802 George Washington Way, Richland, Washington 99352; and on Thursday, September 30, 2004, from 7 p.m.-10 p.m., at the Shilo Inn, 780 Lindsay Boulevard, Idaho Falls, Idaho 83402.

ADDRESSES: Comments or suggestions on the scope for the EIS and questions concerning the proposed action may be submitted to: Mr. Douglas H. Chapin, NEPA Document Manager, FFTF Decommissioning EIS, U.S. Department of Energy, Richland Operations Office, Post Office Box 550, Mail Stop A3-04, Richland, Washington, 99352. You may also leave a message at (888) 886-0821, send a fax to (509) 376-0177, or an e-mail to: Douglas_H_Chapin@rl.gov.

FOR FURTHER INFORMATION CONTACT: For further information about FFTF, to request information about this EIS and the public scoping meetings, or to be placed on the EIS distribution list, please contact Mr. Chapin using any of the methods identified above. For general information about the DOE NEPA process, please contact: Ms. Carol M. Borgstrom, Director, Office of NEPA Policy and Compliance (EH-42), U.S. Department of Energy, 1000 Independence Avenue, SW., Washington, DC 20585-0119, telephone: (202) 586-4600, or leave a message at (800) 472-2756.

SUPPLEMENTARY INFORMATION: Background: The FFTF is a DOE-owned, 400-megawatt (thermal) liquid-metal (sodium) cooled nuclear test reactor located on the DOE Hanford Site's 400 Area near Richland, Washington. FFTF full-scale operations were conducted between 1982 and 1992. DOE operated FFTF as a non-breeder test reactor for the U.S. liquid metal fast breeder reactor program testing advanced nuclear fuels, materials, components, and reactor safety designs. DOE also conducted ancillary experimental activities including cooperative international research and irradiation to produce a variety of medical and industrial isotopes.

In May 1995, DOE issued the Environmental Assessment: Shutdown of the Fast Flux Test Facility, Hanford Site, Richland, Washington (DOE/EA-0993, May 1995) and Finding of No Significant Impact (FONSI, May 1995). This Environmental Assessment (EA) evaluated the potential impacts associated with actions necessary to place the FFTF in a radiologically-safe and industrially-safe permanent shutdown and deactivation condition (Phase I), suitable for a long-term surveillance and maintenance (Phase II) prior to decommissioning (Phase III). The EA did not evaluate Phase III. DOE determined that an EIS was not required for the permanent shutdown and deactivation of the FFTF, and issued a Finding of No Significant Impact (FONSI).

Based on the Final Programmatic Environmental Impact Statement for Accomplishing Expanded Civilian Nuclear Energy Research and Development and Isotope Production Missions in the United States, Including the Role of the Fast Flux Test Facility (NI-PEIS)( DOE/EIS-0310, December 2000), DOE decided in the Record of Decision (ROD) (66 FR 7877, January 26, 2001), that the permanent closure of FFTF was to be resumed, with no new missions. The NI PEIS reviewed the environmental impacts associated with enhancing the existing DOE nuclear facility infrastructure to provide for the following missions: (1) Production of isotopes for medical, research, and industrial uses; (2) production of plutonium-238 for use in advanced radioactive isotope power systems for future National Aeronautics and Space Administration (NASA) space exploration missions, and (3) to support the nation's civilian nuclear energy research and development needs. In the NI PEIS, FFTF was evaluated as an alternative irradiation services facility for the aforementioned missions.

DOE is currently engaged in the permanent deactivation of the FFTF consistent with the May 1995 FFTF Shutdown EA and FONSI and the January 26, 2001, ROD. Major deactivation activities underway at this time include: washing the FFTF fuel to remove sodium, placing the fuel into dry cask storage, draining sodium systems, and deactivating auxiliary plant systems. The FFTF fuel, which includes sodium-bonded fuel, is being managed and dispositioned consistent with previous applicable DOE NEPA decisions (see “Related NEPA Reviews”).

Proposed Action: NEPA requires the preparation of an EIS for major federal actions that significantly affect the quality of the human environment. DOE is preparing an EIS (DOE/EIS-0364) for proposed FFTF decommissioning activities.

DOE's purpose and need is to reduce long-term risks associated with the deactivated FFTF and its ancillary support facilities, and to reduce surveillance and maintenance costs. In order to meet this purpose and need, DOE proposes to decommission the deactivated FFTF and its support facilities by September 2012, consistent with the ongoing Request for Proposal No. DE-RP06-04RL14600 for the FFTF Closure Project. Alternatives for accomplishing this proposed action described below.

Preliminary Alternatives: Consistent with NEPA implementation requirements, the EIS will assess the range of reasonable alternatives regarding DOE's need for decommissioning the FFTF, and a No Action alternative. The EIS will provide a means for soliciting public input on the alternatives to be analyzed as part of DOE's decisionmaking process. DOE's current proposed alternatives include entombment and removal.

Other reasonable alternatives that may arise during public scoping and preparation of the draft EIS would also be considered. Because DOE has made a programmatic decision to permanently shutdown and deactivate FFTF, and is currently performing deactivation activities consistent with this decision, restart of the FFTF is not considered a reasonable decommissioning alternative. The preferred alternative for decommissioning would be identified in the EIS and DOE's decision would be announced in a ROD. Consistent with this ROD, DOE would also prepare any regulatory documents that might be required as a result of permitting, closure, or documentation requirements under the Atomic Energy Act; the Resource Conservation and Recovery Act, and the Washington State Hazardous Waste Management Act of 1976; or the Comprehensive Environmental, Response, Compensation and Liability Act. In meeting any State (of Washington) Environmental Policy Act (SEPA) requirements related to state permitting or other regulatory actions, the State of Washington Department of Ecology (Ecology) can adopt a NEPA document if it determines that it is sufficient to meet SEPA requirements. DOE intends to coordinate with Ecology to ensure these needs are addressed.

The EIS will analyze reasonable alternatives for the management and disposition of FFTF waste, and reasonable onsite (Hanford Site) and offsite (Idaho) alternatives for the management and disposition of the Hanford Site radioactive sodium inventory.

The proposed alternatives to be considered in the EIS include:

• No Action Alternative. The Council on Environmental Quality NEPA Regulations (40 CFR parts 1500-1508), and the DOE NEPA Regulations (10 CFR part 1021) require analysis of a No Action alternative. Under this alternative, deactivation would be completed consistent with previous NEPA decisions, such that the FFTF and support buildings could be maintained in a long-term surveillance and maintenance condition for the foreseeable future; no decommissioning would occur. The facility would be monitored and periodic surveillance and maintenance performed to ensure that no environmental releases or safety issues develop. The impacts from this No Action alternative will be used as the basis for comparing the impacts of the action alternatives.

• Entombment Alternative. Under this alternative, DOE would decontaminate, dismantle, and remove the FFTF Reactor Containment Building dome (and structures within) above grade level (i.e., 550 feet above mean sea level). The FFTF Reactor Vessel, contained within the Reactor Containment Building, along with radioactive and contaminated equipment, components, piping, and materials, including any asbestos, depleted uranium shielding, and lead shielding, would remain in place. The Reactor Containment Building below grade level would be filled with grout or other suitable fill material to immobilize remaining radioactive and chemically-hazardous materials to the maximum extent practicable, and to minimize subsidence. The Reactor Containment Building fill material may include hazardous, and/or radioactive and contaminated materials, as allowed by regulations. A regulatory-compliant, engineered barrier would be used to cover the filled area. The barrier, together with the lower Reactor Containment Building structure and internal structures, and the immobilization and/or subsidence matrix would comprise the entombment structure (i.e., the entombed area).

The FFTF support buildings outside the entombed area, would be decontaminated and demolished to below grade level, backfilled, and remediated, as appropriate. Below-grade portions would be backfilled and covered to minimize free (void) spaces. Appropriate institutional controls would also be implemented (e.g., deed restrictions, etc.).

• Removal Alternative. Under this alternative, DOE would decontaminate, dismantle, and remove the Reactor Containment Building dome (and structures within) above grade level. The Reactor Vessel, contained within the Reactor Containment Building below grade level, along with radioactive and contaminated equipment, components, piping, and materials, including any asbestos, depleted uranium shielding, and lead shielding, would also be removed. The removed radioactive and contaminated equipment, components, piping, and materials would include intermediate heat exchangers, primary pumps, primary isolation valves, primary overflow tanks, Interim Examination and Maintenance Cell equipment, test assembly hardware, and the Interim Decay Storage tank. Additional radioactive and contaminated equipment from the Reactor Containment Building and the FFTF Heat Transport System would also be removed, as necessary. The removed radioactive and contaminated equipment, components, piping, and materials would be disposed of in appropriate Hanford Site 200 Area disposal units such as, but not necessarily limited to, the existing Environmental Restoration and Disposal Facility or the Integrated Disposal Facility, which is proposed for construction. The Reactor Containment Building (and structures within) at grade and below grade, and the FFTF support buildings outside the Reactor Containment Building area, would be decontaminated and demolished to below grade, backfilled and covered to minimize free (void) spaces), and remediated, as appropriate. Appropriate institutional controls would also be implemented (e.g., deed restrictions, etc.).

EIS Schedule: This EIS will be prepared pursuant to NEPA, the Council on Environmental Quality Regulations for Implementing the Procedural Provisions of NEPA (40 CFR parts 1500-1508), and DOE's NEPA Implementing Procedures (10 CFR part 1021). Following publication of this Notice of Intent, DOE will conduct a 45-day public scoping period, including public scoping meetings; and prepare and distribute the draft EIS. A comment period on the draft EIS is planned, which will include public hearings to receive comments. Availability of the draft EIS, the dates of the public comment period, and information about the public hearings will be announced in the Federal Register and in local news media. The final EIS is scheduled for issuance by September 2005. A ROD would be issued no sooner than 30 days after publication of the Environmental Protection Agency's (EPA's) Notice of Availability of the final EIS in the Federal Register.

Preliminary Identification of Environmental and Other Issues

DOE intends to analyze the following issues when assessing the potential environmental impacts of the proposed action and alternatives in this EIS. DOE invites comments on these and any other issues that should be addressed in this EIS.

• Potential accident scenarios at appropriate onsite (Hanford Site) and offsite locations associated with the decommissioning of the FFTF and support facilities and with the management and disposition of resulting waste and Hanford Site radioactive sodium inventory.

• Potential effects on the public and onsite workers from releases of radiological and nonradiological materials during decommissioning operations and reasonably foreseeable accidents.

• Potential long-term risks resulting from the management and disposition of the FFTF waste and Hanford Site radioactive sodium inventory.

• Potential effects on air quality, and water quantity and quality from decommissioning operations and reasonably foreseeable accidents.

• Potential cumulative effects, including impacts from other past, present and reasonably foreseeable actions at or in the vicinity of the Hanford Site.

• Potential effects on biological resources (e.g., rare, threatened, or endangered species and their habitat).

• Potential effects on archaeological/cultural/historical sites.

• Potential effects from transportation activities and from reasonably foreseeable transportation accidents.

• Potential socioeconomic impacts on surrounding communities.

• Potential for disproportionately high and adverse effects on low-income and minority populations (Environmental Justice).

• Potential, unavoidable adverse environmental effects.

• Potential, short-term uses of the environment versus long-term productivity.

• Potential irreversible and irretrievable commitment of resources.

• Potential consumption of natural resources and energy, including water, geologic materials, natural gas, and electricity.

• Potential pollution prevention, waste minimization, and mitigative measures.

Related NEPA Reviews: Listed below are some of the key NEPA documents to be considered in relation to the EIS:

• Environmental Statement, Fast Flux Test Facility, Richland, Washington (WASH-1510, May 1972). This Environmental Statement (prepared by the U.S. Atomic Energy Commission) assessed the potential environmental impacts associated with the FFTF Project.

• Final Environmental Impact Statement: Department of Energy Programmatic Spent Nuclear Fuel Management and Idaho National Engineering Laboratory Environmental Restoration and Waste Management Programs (DOE/EIS-0203, April 1995) and ROD (60 FR 28680, May 1, 1995). This EIS analyzed (at a programmatic level) the potential environmental consequences over the next 40 years of alternatives related to the transportation, receipt, processing, and storage of spent nuclear fuel under the responsibility of DOE. For programmatic spent nuclear fuel management, this EIS analyzed alternatives of no action, decentralization, regionalization, centralization, and the use of the plans that existed in 1992 and 1993 for the management of these materials.

• Environmental Assessment: Shutdown of the Fast Flux Test Facility, Hanford Site, Richland, Washington and FONSI (DOE/EA-0993, May 1995). This EA evaluated the impacts associated with deactivation actions necessary to place the FFTF in a radiologically- and industrially-safe condition (Phase I), suitable for long-term surveillance and maintenance (Phase II) prior to decommissioning (Phase III). The EA did not evaluate Phase III. DOE determined that an EIS was not required for the permanent shutdown and deactivation of the FFTF and issued a FONSI.

• Environmental Assessment: Management of Hanford Site Non-Defense Production Reactor Spent Nuclear Fuel, Hanford Site, Richland, Washington and FONSI (DOE/EA-1185, March 1997). This EA evaluated the environmental impacts associated with actions necessary to place the Hanford Site's non-defense production reactor spent nuclear fuel, which includes FFTF's spent nuclear fuel, in a radiologically- and industrially-safe, and passive, consolidated storage condition pending final decommissioning. DOE determined that the interim management and storage of the subject spent nuclear fuel at the Hanford Site did not require an EIS and issued a FONSI.

• Environmental Assessment: Shutdown of Experimental Breeder Reactor-II (EBR-II) at Argonne National Laboratory-West and FONSI (DOE/EA-1199, September 1997). This EA addressed the placement of EBR-II and its supporting facilities in an industrially and radiologically safe shutdown condition pending ultimate decommissioning, including the draining of the primary and secondary sodium and reaction of the sodium in the Sodium Processing Facility. The EA did not evaluate final decontamination and decommissioning of EBR-II or the Sodium Processing Facility. DOE determined that an EIS was not required and issued a FONSI.

• Final Hanford Comprehensive Land Use Plan Environmental Impact Statement (DOE/EIS-0222, September 1999) and ROD (64 FR 61615, November 12, 1999). This EIS focused on developing an overall strategy for future land use at Hanford and included a proposed comprehensive land use plan for the Hanford Site for at least the next 50 years of ownership. DOE decided in the ROD that the 400 Area would be designated “industrial.” This land-use designation supports the 1997 EPA Brownfields Initiative for contaminated areas (“Brownfields Economic Development Initiative, EPA 500-F-97-158, U.S. Environmental Protection Agency, Washington, D.C., September 1997.”)

• Final Environmental Impact Statement for the Treatment and Management of Sodium-Bonded Spent Nuclear Fuel (DOE/EIS-0306, July 2000) and ROD (65 FR 56565, September 19, 2000). This EIS evaluated strategies to remove or stabilize the reactive sodium contained in a portion of DOE's spent nuclear fuel inventory to prepare the spent nuclear fuel for disposal in a geologic repository. The EIS analyzed, under the proposed action, six alternatives that employ one or more of the following technology options at nuclear fuel management facilities at the Savannah River Site or the INEEL: electrometallurgical treatment; the plutonium-uranium extraction process; packaging in high-integrity cans; and the melt and dilute treatment process. DOE decided in the ROD to implement the preferred alternative of electrometallurgically treating the EBR-II spent nuclear fuel and miscellaneous small lots of sodium bonded spent nuclear fuel at the ANL-W facility at the INEEL. FFTF has a small inventory of sodium bonded fuel identified in this EIS.

• Final Environmental Impact Statement, Commercial Low-Level Radioactive Waste Disposal Site, Hanford Site, Richland, Washington, State of Washington Department of Ecology (May 2004)). This EIS was prepared by Ecology to evaluate pending actions, including an operating license renewal, at the existing commercial low-level radioactive waste disposal site located on the Hanford Site in Richland, Washington.

• Final Programmatic Environmental Impact Statement for Accomplishing Expanded Civilian Nuclear Energy Research and Development and Isotope Production Missions in the United States, Including the Role of the Fast Flux Test Facility (NI-PEIS, DOE/EIS-0310, December 2000) and ROD (66 FR 7877, January 26, 2001). This nuclear infrastructure programmatic EIS evaluated the proposed expansion of the nuclear irradiation capabilities for accomplishing civilian nuclear energy research and development activities, accommodating the projected growth in demand for medical and industrial isotopes, and production of plutonium-238 to support future National Aeronautics and Space Administration space exploration missions. Also included was an alternative to permanently deactivate the FFTF. The EIS concluded that “lack of clear commitments from likely users discouraged the Department from planning to build new facilities or to restart the FFTF.” DOE decided in the ROD that the FFTF would be permanently deactivated.

• Final Hanford Site Solid (Radioactive and Hazardous) Waste Program Environmental Impact Statement, Richland, Washington (DOE/EIS-0286, January 2004) and ROD (69 FR 39449, June 30, 2004). This EIS evaluated alternatives to provide capabilities to treat, store, and/or dispose of existing and anticipated quantities of solid low-level waste (LLW), mixed low-level waste (MLLW), Transuranic (TRU) waste, and immobilized low activity waste to support clean up at Hanford and to assist other DOE sites in completing their cleanup programs. DOE decided in the ROD to (1) limit the volumes of LLW and MLLW received at Hanford from other sites for disposal; (2) dispose of LLW in lined disposal facilities, a practice already used for MLLW; (3) construct and operate a lined, combined-use disposal facility (previously referenced in this Notice of Intent as the “Integrated Disposal Facility”) in Hanford's 200 East Area for disposal of LLW and MLLW, and further limit offsite waste receipts until the IDF is constructed; (4) treat LLW and MLLW (requiring treatment) at either offsite facilities or existing or modified facilities, as appropriate; and (5) use existing and modified onsite facilities to store, process, and certify TRU waste for subsequent shipment to the DOE Waste Isolation Pilot Plant.

• Environmental Impact Statement for Retrieval, Treatment, and Disposal of Tank Waste and Closure of Single-Shell Tanks at the Hanford Site, Richland, Washington (DOE/EIS-0356). This EIS will evaluate the potential environmental impacts of the proposed action and range of reasonable alternatives, including no action, to treating and disposing of the subject tank waste and the safe management and closure of the subject tanks. The document is currently in development and a draft EIS has not yet been issued.

Public Reading Rooms

Documents referenced in this Notice of Intent and related information are available at the following locations: DOE Reading Room, WSU Tri-Cities, 2710 University Drive, Richland, Washington 99352, 509-372-7443; and the U.S. Department of Energy Headquarters Public Reading Room, 1000 Independence Avenue, SW., Room 1E-190 (ME-74) FORS, Washington, DC 20585, 202-586-3142.

Issued in Washington, DC on August 9, 2004.
John Spitaleri Shaw,
Acting Assistant Secretary, Office of Environment, Safety and Health.

[FR Doc. 04-18535 Filed 8-12-04; 8:45 am]

BILLING CODE 6450-01-P